DEPARTMENT OF THE INTERIOR

National Park Service

[NPS-WASO-BSAD-CONC-15010; PPWOBSADC0, PPMVSCS1Y.Y00000]

Information Collection Request Sent to the Office of Management and Budget (OMB) for Approval; National Park Service Leasing Program

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on February 28, 2014. We may not conduct or sponsor and a person is not required to respond to a collection of information unless it displays a currently valid OMB Control Number. However, under OMB regulations, we may continue to conduct or sponsor this information collection while it is pending at OMB.

DATES: You must submit comments on or before March 31, 2014.

ADDRESSES: Send your comments and suggestions on this information collection to the Desk Officer for the Department of the Interior at OMB-OIRA at (202) 395-5806 (fax) or OIRA_Submission@omb.eop.gov (email). Please provide a copy of your comments to the Information Collection Clearance Officer, National Park Service, 1849 C Street NW. (2601), Washington, DC 20240 (mail); or madonna_baucum@nps.gov (email). Please reference OMB Control Number 1024-0233 in the subject line of your comments.

FOR FURTHER INFORMATION CONTACT: To request additional information about this IC, contact Ben Erichsen at (202) 513-7156 (telephone) or at Ben Erichsen@nps.gov (email). You may review the ICR online at http://www.reginfo.gov. Follow the instructions to review Department of the Interior collections under review by OMB.

SUPPLEMENTARY INFORMATION: I. Abstract. The National Park Service leasing program allows the public to lease property located within the boundaries of the park system, under the authority of the Director of the National Park Service. A lease may not authorize an activity that could be authorized by a concessions contract or commercial use authorization. All leases must provide for the payment of fair market value rent. The Director may retain rental payments for park infrastructure needs and, in some cases, to provide administrative support of the leasing program.

Our authority to collect information for the leasing program is derived from section 802 of the National Parks Omnibus Management Act of 1998 (Pub. L. 105-391), the National Historic Preservation Act (Pub. L. 89-665), and Title 36, Code of Federal Regulations, section 18 (36 CFR 18). For competitive leasing opportunities, the regulations require the submission of proposals or bids by parties interested in applying for a lease. The regulations also require that the Director approve lease amendments, construction or demolition of structures, and encumbrances on leasehold interests.

We collect Information from anyone who wishes to submit a bid or proposal to lease a property. The Director may issue a request for bids if the amount of rent is the only criterion for award of a lease. The Director issues a request for proposals when the award of a lease is based on selection criteria other than the rental rate. A request for proposals may be preceded by a request for qualifications to select a “short list” of potential offerors that meet minimum management, financial, and other qualifications necessary for submission of a proposal.

The Director may enter into negotiations for a lease with nonprofit organizations and units of government without soliciting proposals or bids. In those cases, the Director collects information from the other party regarding the planned use of the premises, potential modifications to the premises, and other information as necessary to support a decision on whether or not to enter into a lease.

We also collect Information from existing leaseholders who seek to:

• Sublet a leased property or assign the lease to a new lessee.

• Construct or demolish portions of a leased property.

• Amend a lease to change the type of activities permitted under the lease.

• Encumber (mortgage) the leased premises.

We use the information to evaluate offers, proposed subleases or assignments, proposed construction or demolition, the merits of proposed lease amendments, and proposed encumbrances. The completion times for each information collection requirement vary substantially depending on the complexity of the leasing opportunity.

II. Data

OMB Control Number: 1024-0233.

Title: National Park Service Leasing Program, 36 CFR 18.

Service Form Number(s): None.

Type of Request: Revision of a currently approved collection.

Description of Respondents: Individuals and businesses.

Respondent's Obligation: Required to obtain or retain a benefit.

Frequency of Collection: On occasion.

Activity | Number of respondents | Number of annual responses | Completion time per response (hours) | Total annual burden hours
Proposals, Bids, Qualifications:
Complex | 10 | 10 | 40 | 400
Simple | 10 | 10 | 8 | 80
Requests to Sublet/Assign Lease:
Complex | 1 | 1 | 40 | 40
Simple | 4 | 4 | 8 | 32
Construction/Demolition Requests:
Complex | 2 | 2 | 32 | 64
Simple | 1 | 1 | 12 | 12
Amendments | 2 | 2 | 4 | 8
Encumbrance Requests:
Complex | 2 | 2 | 40 | 80
Simple | 2 | 2 | 8 | 16
TOTALS | 34 | 34 |  | 732

Estimated Annual Nonhour Burden Cost: None.

III. Comments

On October 22, 2013, we published in the Federal Register (78 FR 62658) a notice of our intent to request that OMB renew approval for this information collection. In that notice, we solicited comments for 60 days, ending on December 23, 2013. We received no comments in response to this notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 24, 2014.
Ramie Lynch,
Acting, Information Collection Clearance Officer, National Park Service.

[FR Doc. 2014-04342 Filed 2-26-14; 8:45 am]

BILLING CODE 4310-EH-P